DEPARTMENT OF ENERGY

Federal Energy Regulatory Commission

[Project Nos.: 12540-001, 12544-001, 12545-001, 12548-001, 12549-001]

Hydrodynamics Inc.; Notices of Intent To File License Applications; Filing of Pre-Application Documents; and Notice of, and Soliciting Comments on, the Request To Use the Traditional Licensing Process and To Waive Certain Pre-Filing Consultation Requirements

December 18, 2007.

a. Type of Filing: Notices of Intent To File License Applications, Pre-Application Documents, Request To Use the Traditional Licensing Process, and Request To Waive Certain Pre-Filing Consultation Requirements.

b. Project Nos.: 12540, 12544, 12545, 12548, 12549.

c. Dated Filed: November 27, 2007.

d. Submitted By: Hydrodynamics Inc.

e. Names of Projects: Woods, Knights, Johnson, Greenfield, A-Drop.

f. Location: On the Greenfields Main and South Irrigation Canals, in Cascade and Teton Counties, Montana. The projects would occupy in part lands of the United States administered by the Bureau of Reclamation.

g. Filed Pursuant to: 18 CFR 5.3 of the Commission's regulations.

h. Potential Applicant Contact: Jason Cohn, Hydrodynamics, 521 East Peach, Suite 2B, Bozeman, MT 59715; (406) 587-5086; e-mail—Jason@hydrodynamics.biz.

i. FERC Contact: Dianne Rodman at (202) 502-6077; or e-mail at dianne.rodman@ferc.gov.

j. Hydrodynamics filed its request to use the Traditional Licensing Process (TLP) on November 27, 2007. The filing also included a request for waiver of certain of the pre-filing consultation requirements in § 4.38 of the Commission's regulations, specifically: (1) The requirement that the potential applicant hold a joint meeting with all pertinent agencies, Indian tribes, and members of the public no earlier than 30 days from the date of the Commission's approval of the request to use the TLP, § 4.38(b)(3)(ii)(A); (2) the requirement that the potential applicant conduct any studies requested during the 60-day comment period after the joint meeting, § 4.38(b)(5) and § 4.38(c)(1); and (3) the requirement that the potential applicant allow resource agencies and Indian tribes 90 days in which to review and comment on the draft license applications, § 4.38(c)(5). Hydrodynamics provided public notice of its request to use the TLP on November 20, 2007.

k. On December 11, 2007, Hydrodynamics clarified that it is requesting that (1) the meeting it held on December 3, 2007, constitute the joint meeting required by § 4.38(b)(3)(i)(A)(1); (2) the pre-application documents (PADs) serve as the draft license applications; and (3) comments on the draft license applications be due within 60 days of the joint meeting (by February 3, 2008).

l. Comments on the request to use the TLP and to waive parts of the Commission's regulations for pre-filing consultation are due to the Commission and Hydrodynamics within 30 days from the date of this notice. In accordance with § 5.3(d)(2)(v) of the Commission's regulations, comments on the request to use the TLP should address, as appropriate, the following factors: (1) Likelihood of timely license issuance; (2) complexity of the resource issues; (3) level of anticipated controversy; (4) relative cost of the TLP compared to the Integrated Licensing Process; (5) the amount of available information and potential for significant disputes over studies; and (6) other factors believed to be pertinent.

Comments must be filed with the Commission at the following address: Kimberly D. Bose, Secretary, Federal Energy Regulatory Commission, 888 First Street, NE., Washington, DC 20426. All filings with the Commission must include on the first page, the project names (Woods, Knights, Johnson, Greenfield, and A-Drop Hydroelectric Projects) and numbers (P-12540, P-12544, P-12545, P-12548, and P-12549).

Comments may be filed electronically via the Internet in lieu of paper. The Commission strongly encourages electronic filings. See 18 CFR 385.2001(a)(1)(iii) and the instructions on the Commission's Web site (http://www.ferc.gov) under the “e-filing” link.

m. With this notice, we are waiving the requirement of 18 CFR 5.8(a) of the Commission's regulations for the Commission to act on Hydrodynamics' request to use the TLP within 60 days from the notice of intent.

n. Hydrodynamics filed PADs for the projects with the Commission, pursuant to 18 CFR 5.6 of the Commission's regulations.

o. Copies of each of the PADs are available for review at the Commission in the Public Reference Room or may be viewed on the Commission's Web site (http://www.ferc.gov), using the “eLibrary” link. Enter the docket numbers, excluding the last three digits in the docket number field to access the documents. For assistance, contact FERC Online Support at FERCONlineSupport@ferc.gov or toll free at 1-866-208-3676, or for TTY, (202) 502-8659. Copies are also available for inspection and reproduction at the address in paragraph h.

p. Register online at http://ferc.gov/esubscribenow.htm to be notified via e-mail of new filings and issuances related to these or other pending projects. For assistance, contact FERC Online Support.

Kimberly D. Bose,
Secretary.

[FR Doc. E8-498 Filed 1-14-08; 8:45 am]

BILLING CODE 6717-01-P